DEPARTMENT OF STATE

[Public Notice: 10067]

Bureau of Political-Military Affairs; Rescission of Statutory Debarment and Reinstatement of Pratt & Whitney Canada Corporation Under the Arms Export Control Act and the International Traffic in Arms Regulations

ACTION: Notice.

SUMMARY: Notice is hereby given that the Department of State has rescinded the statutory debarment of, and reinstated Pratt & Whitney Canada Corporation, pursuant to the Department's authorities under the Arms Export Control Act and the International Traffic in Arms Regulations.

DATES: Rescission and reinstatement as of July 12, 2017.

FOR FURTHER INFORMATION CONTACT: Arthur Shulman, Acting Director, Office of Defense Trade Controls Compliance, Bureau of Political-Military Affairs, Department of State (202) 632-3384.

SUPPLEMENTARY INFORMATION: Section 38(g)(4) of the AECA, 22 U.S.C. 2778(g)(4), prohibits the issuance of export licenses or other approvals for the export of defense articles or defense services where the applicant, or any party to the export, has been convicted of violating the AECA and certain other U.S. criminal statutes enumerated at section 38(g)(1) of the AECA. In addition, section 127.7(b) of the ITAR provides for the statutory debarment of any person who has been convicted of violating or conspiring to violate the AECA. Persons subject to statutory debarment are prohibited from participating directly or indirectly in the export of defense articles, including technical data, or in the furnishing of defense services for which a license or other approval is required.

In June 2012, Pratt & Whitney Canada Corporation pleaded guilty to violating the AECA (U.S. District Court, District of Connecticut, 12-CR-146-WWE). Based on this plea, Pratt & Whitney Canada Corporation was ineligible in accordance with section 120.1 of the ITAR and was statutorily debarred, with certain exceptions, pursuant to section 127.7(b) of the ITAR. Notice of debarment of Pratt & Whitney Canada Corporation, 1000 boul. Marie-Victorin, Longueuil, Quebec, Canada J4G 1A1 (and all other Pratt & Whitney Canada Corporation locations) was published in the Federal Register (77 FR 40140, July 6, 2012).

In accordance with section 127.7 of the ITAR, the statutory debarment may be rescinded after consultation with other appropriate U.S. agencies, after a thorough review of the circumstances surrounding the conviction, and a finding that appropriate steps have been taken to mitigate any law enforcement concerns. The Department of State has consulted with other appropriate U.S. agencies and has determined that Pratt & Whitney Canada Corporation has taken appropriate steps to address the causes of the violations and to mitigate any law enforcement concerns.

Therefore, in accordance with section 38(g)(4) of the AECA and sections 127.7(b) and 127.11(b) of the ITAR, Pratt & Whitney Canada Corporation is eligible to be involved in ITAR-regulated activities and the statutory debarment is rescinded, effective July 12, 2017. Pratt & Whitney Canada Corporation may participate directly or indirectly in any activities that are subject to the ITAR.

Tina S. Kaidanow,
Acting Assistant Secretary, Bureau of Political-Military Affairs.

[FR Doc. 2017-15969 Filed 8-1-17; 8:45 am]

BILLING CODE 4710-25-P